DEPARTMENT OF AGRICULTURE

Commodity Credit Corporation

Request for Revision of a Currently Approved Information Collection

AGENCY: Commodity Credit Corporation, USDA.

ACTION: Notice and request for comments.

SUMMARY: In accordance with the Paperwork Reduction Act of 1995, this notice announces the Commodity Credit Corporation's (CCC) intention to request a revision to a currently approved information collection. This information collection is used in support of loan deficiency payments authorized by the Federal Agriculture Improvement and Reform Act of 1996 (the 1996 ACT), for rice, upland cotton, feed grains, wheat, and oilseeds.

DATES: Comments on this notice must be received on or before August 14, 2000, to be assured consideration.

FOR FURTHER INFORMATION CONTACT: Raellen Erickson, Price Support Division, USDA, FSA, 1400 Independence Avenue, S.W., STOP 0512, Washington, DC 20250-0512, telephone (202) 720-7320; e-mail: raellen_erickson @ wdc.fsa.usda.gov; pr facsimile (202) 690-3307.

SUPPLEMENTARY INFORMATION: Title: Loan Deficiency Payments.

OMB Control Number: 0560-0129.

Expiration Date: January 31, 2001.

Type of Request: Revision of a currently approved information collection.

Abstract: The 1996 Act provides for loan deficiency payments to eligible producers with respect to eligible commodities. Forms required for requesting these payments are used by producers requesting a loan deficiency payment in lieu of a marketing assistance loan with respect to eligible production. This information collected is needed to determine loan deficiency payment quantities and payment amounts, verify producer and commodity eligibility, and to ensure that only eligible producers receive loan deficiency payments.

Producers requesting loan deficiency payments must provide specific data relative to the loan deficiency payment request. Forms included in this information collection package require various types of information including the farm number, type of commodity, quantity of commodity, storage location, and percent share of the commodity to determine eligibility. Producers must also agree to the terms and conditions contained in the loan deficiency payment application. The completed application is used by CCC when issuing a loan deficiency payment. Without this collection of information, CCC could not carry out the statutory loan deficiency payment provisions.

Estimate of Burden: Public reporting burden for this collection of information is estimated to average 30 minutes per producer.

Respondents: Eligible producers.

Estimated Number of Respondents: 2,035,000.

Number of Responses: 6,105,000.

Estimated Total Annual Burden: 3,825,000 hours.

Proposed topics for comments are: (a) Whether the collection of information is necessary for the proper performance of the functions of the agency, including whether the information will have practical utility: (b) the accuracy of the agency's estimate of burden including the validity of the methodology and assumptions used: (c) ways to enhance the quality, utility, and clarity of the information to be collected: or (d) ways to minimize the burden of the collection of information on those who are to respond, including through the use of appropriate automated, electronic, mechanical or other technological collection techniques or other forms of information technology.

Comments should be sent to the Desk Officer for Agriculture, Office of Information and Regulatory Affairs, Office of Management and Budget, Washington, DC 20503 and to Raellen Erickson, USDA—Farm Service Agency—Price Support Division, 1400 Independence Avenue, S.W., STOP 0512, Washington, DC 20250-0512: telephone (202) 720-7320: e-mail raellen_erickson@wdc.fsa.usda.gov. Copies of the information collection may be obtained from Raellen Erickson at the above address.

OMB is required to make a decision concerning the collection contained in these proposed regulations between 30 and 60 days after publication of this document in the Federal Register. Therefore, a comment to OMB is best assured of having its full effect if OMB receives it within 30 days of publication.

All responses to this notice will be summarized and included in the request for OMB approval. All comments will also become a matter of public record.

Signed at Washington, DC, on June 9, 2000.
Parks Shackelford,
Acting Executive Vice President,, Commodity Credit Corporation.

[FR Doc. 00-15153 Filed 6-14-00; 8:45 am]

BILLING CODE 3410-05-P